FARM CREDIT ADMINISTRATION

12 CFR Chapter VI

RIN 3052-AC42 and 3052-AC39

Funding and Fiscal Affairs, Loan Policies and Operations, and Funding Operations; Mission-Related Investments, Rural Community Investments; Regulatory Burden

AGENCY: Farm Credit Administration.

ACTION: Proposed rule and notice of intent; public comment notification.

SUMMARY: In June of 2008, the Farm Credit Administration (FCA, we, or us) published in the Federal Register a proposed rule pertaining to investments in rural communities as well as a notice of intent pertaining to regulatory burden, both requesting comments from the public. For both, a total of five comments sent via the http://www.regulations.gov eRulemaking portal were not transmitted to the FCA. We are asking any member of the public who used this method to send comments to FCA and believes their comment may have been lost to contact the staff members listed below.

DATES: Please contact us on or before November 21, 2008.

ADDRESSES: You may review copies of comments we received on these two documents at our office in McLean, Virginia, or from our Web site at http://www.fca.gov. Once you are in the Web site, select “Public Commenters,” then “Public Comments,” and follow the directions for “Reading Submitted Public Comments.”

FOR FURTHER INFORMATION CONTACT: Dale L. Aultman, Senior Policy Analyst, Office of Regulatory Policy, Farm Credit Administration, McLean, VA 22102-5090, (703) 883-4498, TTY (703) 883-4434; or Mary Alice Donner, Senior Attorney, Office of General Counsel, Farm Credit Administration, McLean, VA 22102-5090, (703) 883-4020, TTY (703) 883-4020.

SUPPLEMENTARY INFORMATION: On June 16, 2008, we published (73 FR 33931) a proposed rule that would authorize each Farm Credit System bank, association, and service corporation to invest in rural communities across America under certain conditions. The comment period for this proposed rule ended on August 15. On June 23, 2008, we published (73 FR 35361) a notice of regulatory review and request for comment pertaining to regulatory burden. That comment period ended on August 22, 2008. However, due to a technical software error that is now corrected, a total of five public comments submitted via the http://www.regulations.gov eRulemaking portal were not transmitted to FCA. Four comments pertained to the proposed rule on rural community investments and one comment pertained to the regulatory burden notice.

The FCA supports public involvement and participation in its regulatory process. Therefore, we would like any member of the public who submitted a comment, via the eRulemaking portal, and believes their comment may have been lost to contact us so we may personally ensure that your comment is included. You may contact us by calling one of the two individuals listed in the FOR FURTHER INFORMATION CONTACT section of this notice.

Dated: October 30, 2008.
Roland E. Smith,
Secretary, Farm Credit Administration Board.

[FR Doc. E8-26273 Filed 11-3-08; 8:45 am]

BILLING CODE 6705-01-P